DEPARTMENT OF COMMERCE

Foreign-Trade Zones Board

[B-8-2015]

Foreign-Trade Zone 72—Indianapolis, Indiana; Expansion of Subzone 72B; Eli Lilly and Company; Plainfield, Indiana

An application has been submitted to the Foreign-Trade Zones (FTZ) Board by the Indianapolis Airport Authority, grantee of FTZ 72, requesting an expansion of Subzone 72B on behalf of Eli Lilly and Company (Eli Lilly) to include a site in Plainfield, Indiana. The application was submitted pursuant to the provisions of the Foreign-Trade Zones Act, as amended (19 U.S.C. 81a-81u), and the regulations of the FTZ Board (15 CFR part 400). It was formally docketed on February 13, 2015.

Subzone 72B was approved on July 26, 1985 (Board Order 309, 50 FR 3l404, 8-2-1985), and expanded on April 15, 2002 (Board Order 1222, 67 FR 20086, 4-24-2002). The subzone currently consists of two sites: Site 1 (359 acres)—five parcels in the Indianapolis area, Marion County; and, Site 3 (751 acres)—State Road 63, Clinton, Vermillion County.

The current request would add a site (34 acres) located at 2222 Stanley Road in Plainfield, Hendricks County, to the subzone. No additional authorization for production activity has been requested at this time.

In accordance with the FTZ Board's regulations, Elizabeth Whiteman of the FTZ Staff is designated examiner to review the application and make recommendations to the FTZ Board.

Public comment is invited from interested parties. Submissions shall be addressed to the FTZ Board's Executive Secretary at the address below. The closing period for their receipt is April 6, 2015. Rebuttal comments in response to material submitted during the foregoing period may be submitted during the subsequent 15-day period to April 20, 2015.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Elizabeth Whiteman at Elizabeth.Whiteman@trade.gov or (202) 482-0473.

Dated: February 13, 2015.
Andrew McGilvray,
Executive Secretary.

[FR Doc. 2015-03614 Filed 2-20-15; 8:45 am]

BILLING CODE 3510-DS-P